DEPARTMENT OF EDUCATION

34 CFR Chapter III

[Docket ID ED-2024-OSERS-0131]

Innovative Rehabilitation Training Program

AGENCY: Office of Special Education and Rehabilitative Services, Department of Education.

ACTION: Final priority and requirements.

SUMMARY: The U.S. Department of Education (Department) announces the final priority and requirements under the Innovative Rehabilitation Training program, Assistance Listing Number 84.263G. The Department may use the priority and requirements for competitions in fiscal year (FY) 2025 and later years. We take this action to promote the development of innovative and improved methods of training on promising vocational rehabilitation (VR) counseling, engagement, and service delivery strategies and practices to State VR agency personnel or other public or non-profit rehabilitation professionals and paraprofessionals (including those enrolled in master's or bachelor's level rehabilitation programs) to provide quality VR and supported employment services that lead to quality employment outcomes for individuals with disabilities.

DATES: The priority and requirements are effective July 28, 2025.

FOR FURTHER INFORMATION CONTACT: Felipe Lulli, U.S. Department of Education, 400 Maryland Avenue SW, Room 4A10, Washington, DC 20202. Telephone: (202) 987-0128. Email: 84.263G@ed.gov.

If you are deaf, hard of hearing, or have a speech disability and wish to access telecommunications relay services, please dial 7-1-1.

SUPPLEMENTARY INFORMATION:

Purpose of Program: The Innovative Rehabilitation Training program is designed to develop: (a) new types of training programs for rehabilitation personnel and to demonstrate the effectiveness of these new types of training programs for rehabilitation personnel in providing rehabilitation services to individuals with disabilities; (b) new and improved methods of training rehabilitation personnel so that there may be a more effective delivery of rehabilitation services to individuals with disabilities by designated State rehabilitation agencies and designated State rehabilitation units or other public or non-profit rehabilitation service agencies or organizations; and (c) new innovative training programs for VR professionals and paraprofessionals to have a 21st-century understanding of the evolving labor force and the needs of individuals with disabilities so they can more effectively provide VR services to individuals with disabilities.

Assistance Listing Number: 84.263G

Program Authority: 29 U.S.C. 709(c) and 772.

Applicable Program Regulations: 34 CFR parts 385 and 387.

We published a notice of proposed priority and requirements (NPP) for this program in the Federal Register on December 18, 2024 (89 FR 102841). That notice contained background information and the Department's reasons for proposing the priority and requirements.

Public Comment: In response to our invitation in the NPP, 18 parties submitted comments on the proposed priority and requirements.

Generally, we do not address technical and other minor changes or suggested changes the law does not authorize us to make under the applicable statutory authority. In addition, we do not address general comments that raised concerns not directly related to the proposed priority or requirements.

Analysis of Comments and Changes: An analysis of the comments and of any changes in the priority and requirements since publication of the NPP follows.

Comment: Several commenters suggested that Topic Area 2 (Career Assessment Addressing Emerging Career and Employment Trends) should focus on improving the quality and availability of career assessment and vocational evaluation services through the development of formal, graduate-level training programs. A few commenters specifically noted that the discontinuation of formal, graduate-level training programs in recent years appears to have contributed to a shortage of qualified evaluators and VR professionals trained in using career assessment data. A few commenters also specified that, given these shortages, there are long waitlists for critical career assessment and vocational evaluation services. A few commenters specifically noted considerations for the ways that artificial intelligence (AI) can be part of career assessment.

Discussion: The Department acknowledges the value of career assessment and VR professionals with career assessment expertise. It is also clear that career assessment and VR professionals should be exposed to additional learning options (coursework, practicums, internships, etc.). As a general matter, the Department notes that Topic Area 2 already affords potential applicants flexibility in their proposed approaches, which may include AI.

Changes: Topic Area 2 has been revised to clarify that proposed projects under this topic area must focus on strengthening the capacity of career assessment and vocational evaluation professionals to serve VR participants under this priority. The topic area has also been revised to clarify that an applicant may propose various approaches to strengthen the capacity of career assessment and vocational evaluation professionals. Application Requirement C has also been revised to remove the specific reference to VR counselors in the training plan given that other VR professionals may also be part of such plan.

Comment: One commenter provided support for the importance of Topic Area 2 but noted that the other topic areas in the NPP were overly prescriptive, noting a general burden on data collection and entry requirements and caseload sizes.

Discussion: The Department contends that the commenter's concerns about prescriptiveness do not seem to pertain to other topic areas under this proposed priority and are rather general issues in the field of vocational rehabilitation. However, as a general matter, the Department notes that the priority already affords potential applicants flexibility in their proposed approaches, activities, and objectives in response to the topic area(s) within the priority.

Changes: None.

Comment: One commenter recommended adding language to Topic Area 2 requiring career development professionals working under this priority to hold one or more specified professional certifications and to maintain records showing that they have received 30 hours of continuing education every three years.

Discussion: We do not believe that the recommendation to require or verify specific standards or credentials is within the scope of purpose of the Innovative Rehabilitation Training Program, as defined in the program regulations at 34 CFR part 387. Moreover, we believe that this level of specificity is not necessary and that individual projects are best positioned to define these expectations for their participants.

Changes: None.

Comment: None.

Discussion: In proposed Topic Area 2 (Career Assessment Addressing Emerging Career and Employment Trends), among the list of potential activities that the Department proposed that applicants could address, the Department included “tracking emerging 21st century career trends in [. . .] green industries such as sustainable manufacturing and renewable energy[.]” Upon further review, we do not think it is necessary to prescribe that level of specificity, and that such activities would be subsumed under the broader heading of STEM and advanced technologies. The Department recognizes that applicants might choose to address emerging 21st century career trends in a number of ways that align to local context.

Changes: The reference to “green industries such as sustainable manufacturing and renewable energy” from Topic Area 2 has been removed.

Comment: One commenter recommended adding language in proposed Topic Area 5 (Engagement and Service Delivery Strategies for Underserved Populations) requiring the inclusion of cultural competence training components addressing the unique needs of various groups.

Discussion: Grantees are required to comply with the Federal civil rights laws, which prohibit discrimination on the basis of race, color, or national origin. Therefore, programs funded under this priority will provide the necessary training to all rehabilitation personnel, so that these personnel may effectively deliver rehabilitation services to individuals with disabilities.

Changes: Consistent with the Administration's priority that all recipients of services supported by Federal funding be treated equally, we have removed proposed Topic Area 5. We have also removed a reference to Topic Area 5 from requirement (a).

Comment: A few commenters recommended that the Department add a new topic area on services to transition-age youth and students with disabilities, including family engagement. The commenters indicated that this topic should be addressed distinctly from Topic Area 6 (Field Initiated), given the prioritized attention on collaboration among rehabilitation community providers, centers for independent living, rehabilitation counselors, and other transition professionals required by the new topic area.

Discussion: The Department concurs with the importance of transition services for youth and students with disabilities. An applicant may choose to address transition services through final Topic Area 5 (Field Initiated).

Changes: None.

Comment: One commenter recommended that the priority promote the study and implementation of “qualified service provider” definitions across State VR services.

Discussion: The focus of the Innovative Training Program is on innovative and improved methods of training to provide quality VR and supported employment services that lead to quality employment outcomes for individuals with disabilities. The Department believes that the study of qualified service provider definitions falls outside of the intended scope of the program (as defined in 34 CFR 387.1). We also believe that the program will have the most impact through a priority focused on specific training methods and strategies. As such, we decline to include this change in the priority.

Changes: None.

Final Priority

Innovative Rehabilitation Training on Emerging VR Counseling, Engagement, and Service Delivery Strategies Leading to Quality Employment in 21st Century Careers for Individuals With Disabilities.

Projects that propose a new innovative rehabilitation training program for rehabilitation personnel on emerging VR counseling, engagement, and service delivery best practices or strategies in any of five topic areas that provides a 21st century understanding of the evolving labor force and the needs of individuals with disabilities, resulting in more effective delivery of rehabilitation services to individuals with disabilities. The five topic areas under this priority are:

(1) VR Counselor Participant Engagement Practices, (2) Career Assessment Addressing Emerging Career and Employment Trends, (3) Preparing VR Participants for High-Quality Employment in Science, Technology, Engineering, and Math (STEM) and Advanced Technology Careers, including Artificial Intelligence (AI), (4) Dual Customer Employer Engagement and Service Delivery Strategies, and (5) Field Initiated.

(1) VR Counselor Participant Engagement Practices. Proposed projects under this topic area must focus on improving VR counselors' knowledge and skills to effectively engage with VR participants through the VR continuum from referral and application to the provision of VR services under a signed IPE, and through the achievement of an employment outcome. This may include, for example, VR counseling relationship-building skills training; early and ongoing engagement strategies, including pre-employment transition services; benefits counseling, financial planning, and VR participant self-advocacy skills training; and the development of internal and external partnerships with cross-disciplinary VR agency specialists, employers, workforce development partners, Client Assistance Programs, and community-based organizations, including community rehabilitation programs (CRPs) and Centers for Independent Living (CILs).

(2) Career Assessment Addressing Emerging Career and Employment Trends. Proposed projects under this topic area must focus on strengthening the capacity of career assessment and vocational rehabilitation professionals to identify and support VR participants' informed choice and optimal career and employment goals, postsecondary education and training, credentialing and measurable skills attainment pathways, and comprehensive support needs including assistive technology, consistent with participants' unique strengths, abilities, capabilities, and interests. This may include, for example, providing vocational evaluation and comprehensive assessments; facilitating AI-enabled individual supports and accommodations; conducting local and national labor market analyses; tracking emerging 21st century career trends in STEM and advanced technologies; exploring work options such as business ownership, self-employment, and telework; and identifying the most appropriate training and employment options including apprenticeships, customized employment, and career pathways. Projects under this priority may propose various approaches to strengthening the capacity of professionals through career assessment and vocational evaluation programs, courses, modules, practicums, and internships.

(3) Preparing VR Participants for High-quality Employment in STEM and Advanced Technology Careers, including AI. Proposed projects under this topic area must focus on maximizing the number of VR participants provided the opportunity to explore, consider, and pursue high quality careers in STEM and advanced technology careers, including AI, and other emerging high-quality fields. This may include, for example, early and meaningful exposure to such careers through quality pre-employment transition services; peer mentorship by persons with disabilities in such careers; identification of VR participants whose unique strengths, abilities, interests, and informed choice align with such careers; and partnerships with State and local educational agencies, Institutions of Higher Education (IHE), career and technical education programs, disability organizations, CRPs, and others to provide the appropriate training, education, and support services.

(4) Dual Customer Employer Engagement and Service Delivery Strategies. Proposed projects under this topic area must focus on helping VR agency personnel to engage effectively with employers through the provision of the services and training outlined in 34 CFR 361.32, meeting employers' needs for skilled workers while creating quality employment and training opportunities for VR participants. This may include, for example, strategies for identifying promising dual customer employer engagement opportunities; providing training and technical assistance to employers regarding the employment of individuals with disabilities, including disability awareness, and the requirements of the Americans with Disabilities Act and other employment-related laws; supporting VR agency capacity-building to provide quality dual customer services and training to employers; conducting outreach to employers, community-based organizations, and business associations highlighting VR agency capabilities and documented successes; and delivering dual customer services and training through the coordinated efforts of cross-disciplinary VR personnel, employers, and workforce development system partners.

(5) Field Initiated. Proposed projects under this topic area must address an area not specified in this priority, consistent with the stated purpose of the priority, or a combination of two or more topic areas specified in this priority.

Note: The numbering of the topic areas does not reflect an established hierarchy or preference among the topic areas.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Project Requirements

(a) Establish the empirical basis of the proposed project objectives and activities. The applicant must identify the particular focus area it intends to address within the selected topic area; the key knowledge and practice determinants of VR service effectiveness and employment outcome quality; and the empirical sources and rationale for the identified knowledge and practices, including available research, literature reviews, and relevant projects conducted by RSA or other Federal or non-government entities.

(b) Establish a process, including clear and actionable steps as well as specific timelines, to continue assessing innovative practices and training methods for possible incorporation, especially during the initial year of the grant, including stakeholder surveys to identify promising practices that the State VR agencies may already be implementing.

(c) Design an innovative, multifaceted training plan to convey the identified knowledge and practices. The training plan must specify the intended participants; proposed curricula, activities, and products, including training modules, communities of practice, research studies, published articles, or videos; instructional and communication technologies, including AI-based methods and tools, if applicable; and knowledge translation methods adapted to diverse learning styles or ethnic and linguistic backgrounds. The training plan must address a broad range of VR professionals—decision-makers, counselors, cross-disciplinary specialists—and pertinent partners and stakeholders, as appropriate.

(d) Establish an advisory panel of one or more VR agencies and other pertinent stakeholders to help develop, implement, and evaluate the project. The applicant must describe the panel membership, structure, and responsibilities. Panel member responsibilities may include identifying key knowledge requirements, best practices, and innovative approaches for the training curricula and methods; coordinating with other interested parties to disseminate curricula, recruit training participants, engaging additional VR agencies and stakeholders; and participating in the project's continuous feedback, evaluation, and improvement processes.

(e) Prioritize key stakeholder engagement, partnerships, and information-sharing in the innovative training activities, including with IHEs, and relevant professional associations. The applicant must identify the stakeholders to be involved within each of the project's particular focus areas; the purpose and expected benefits of stakeholder involvement; anticipated communities of practices to facilitate stakeholder involvement; and the innovative or advanced convening or communication technologies to be used, as applicable.

(f) Establish continuous feedback, evaluation, and improvement processes, including action steps and clear timelines, to ensure that the training curricula and resources are responsive to the needs of the current and aspiring VR professionals and stakeholders; meet the project scope and objectives; and reflect evolving research, promising practices, and innovative training methods during the life of the grant.

(g) Disseminate, replicate, and sustain the innovative training curricula and resources. The applicant must post completed training curricula and related resources on National Clearinghouse of Rehabilitation Training Materials (NCRTM) and other appropriate venues on an ongoing basis; facilitate replication of training curricula by interested VR agencies, IHEs, or other interested parties; sustain and maintain the training curriculum beyond the life of the grant; and present innovative training curricula, resources, outcomes, and lessons learned in at least one national forum during the final year of the grant.

This document does not preclude us from proposing additional eligibility criteria, priorities, requirements, definitions, and selection criteria subject to meeting applicable rulemaking requirements.

Note: This document does not solicit applications. In any year in which we choose to use this priority and these requirements, we invite applications through a notice in the Federal Register.

Executive Orders 12866, 13563 and 14192

Regulatory Impact Analysis

Under Executive Order 12866, it must be determined whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect in a material way the economy, a sector of the economy, productivity, competition, jobs, the environment, public health or safety, or State, local, or Tribal governments or communities;

(2) Create a serious inconsistency or otherwise interfere with an action taken or planned by another agency;

(3) Materially alter the budgetary impacts of entitlement grants, user fees, or loan programs or the rights and obligations of recipients thereof; or

(4) Raise novel legal or policy issues arising out of legal mandates, the President's priorities, or the principles set forth in the Executive order.

This regulatory action is not a significant regulatory action subject to review by OMB under section 3(f) of Executive Order 12866.

Since this regulatory action is not a significant regulatory action under section 3(f) of Executive Order 12866, it is not considered an “Executive Order 14192 regulatory action.”

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits;

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” OIRA has emphasized that these techniques may include “identifying changing future compliance costs that might result from technological innovation or anticipated behavioral changes.”

We are issuing this final priority and requirements only on a reasoned determination that their benefits would justify their costs. In choosing among alternative regulatory approaches, we selected those approaches that would maximize net benefits. Based on the analysis that follows, the Department believes that this regulatory action is consistent with the principles in Executive Order 13563.

We also have determined that this regulatory action would not unduly interfere with State, local, and Tribal governments in the exercise of their governmental functions.

In accordance with these Executive Orders, the Department has assessed the potential costs and benefits, both quantitative and qualitative, of this regulatory action. The potential costs are those resulting from statutory requirements and those we have determined as necessary for administering the Department's programs and activities.

In addition, we have considered the potential benefits of this regulatory action and have noted these benefits in the background section of the NPP.

We are issuing this final priority and these requirements only on a reasoned determination that its benefits justify their costs. In choosing among alternative regulatory approaches, we selected those approaches that maximize net benefits. Based on the preceding analysis, the Department believes that this regulatory action is consistent with the principles in Executive Order 13563.

We also have determined that this final regulatory action does not unduly interfere with State, local, and tribal governments in the exercise of their governmental functions.

Paperwork Reduction Act of 1995

The final priorities, including requirements, contain information collection requirements that are approved by OMB under OMB control number 1820-0028; the final priorities, including requirements, do not affect the currently approved data collection.

Regulatory Flexibility Act Certification: The Secretary certifies that this final regulatory action will not have a significant economic impact on a substantial number of small entities. The U.S. Small Business Administration (SBA) Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000. Participation in the Innovative Rehabilitation Training program is voluntary. In addition, the only eligible entities for this program are State agencies or their equivalents under State law, Public, Private and Nonprofit Entities, including Indian Tribes and Institutions of Higher Education, which do not meet the definition of a small entity. We expect that in determining whether to apply for Innovative Rehabilitation Training program funds, an eligible entity would evaluate the requirements of preparing an application and any associated costs and weigh them against the benefits likely to be achieved by receiving a program grant. An eligible entity probably would apply only if it determines that the likely benefits exceed the costs of preparing an application.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Diana Diaz,
Deputy Assistant Secretary and Acting Assistant Secretary for Special Education and Rehabilitative Services.

[FR Doc. 2025-11807 Filed 6-25-25; 8:45 am]

BILLING CODE 4000-01-P